DEPARTMENT OF COMMERCE

National Institute of Standards and Technology

AGENCY: National Institute of Standards and Technology Commerce.

ACTION: Notice of prospective grant of exclusive patent license.

SUMMARY: This is a notice in accordance with 35 U.S.C. 209(c)(1) and 37 CFR 404.7(a)(1)(i) that the National Institute of Standards and Technology (“NIST”), U.S. Department of Commerce, is contemplating the grant of an exclusive license world-wide to NIST's interest in the invention embodied in U.S. Patent Application 08/189,553, titled, “Integrated Optic Laser”, filed February 1, 1994; NIST Docket No. 93-039CIP to Schott Glass Technologies, Inc., having a place of business at 400 York Avenue, Duryea, PA. The grant of the license would be for ‘Active Guided Wave Optical Devices’.

FOR FURTHER INFORMATION CONTACT: J. Terry Lynch, National Institute of Standards and Technology, Office of Technology Partnerships, Building 820, Room 213, MS-2200, Gaithersburg, MD 20899.

SUPPLEMENTARY INFORMATION: The prospective exclusive license will be royalty-bearing and will comply with the terms and conditions of 35 U.S.C. 209 and 37 CFR 404.7 The prospective exclusive license may be granted unless, within sixty days from the date of this published Notice, NIST receives written evidence and argument which establish that the grant of the license would not be consistent with the requirements of 35 U.S.C. 209 and 37 CFR 404.7. the availability of the invention for licensing was published in the Federal Register, Vol. 66, No. 47 (March 9, 2001).

U.S. Patent application 08/189,553 is owned by the U.S. Government , as represented by the Secretary of Commerce. The present invention relates to new NIST technology provides a laser waveguide medium capable of generating laser amplification at multiple wavelengths. The medium can produce lasing with high output power and high efficiency at wavelengths that were not previously obtainable.

Dated: June 11, 2001.
Karen H. Brown,
Acting Director.

[FR Doc. 01-15396 Filed 6-18-01; 8:45 am]

BILLING CODE 3510-13-M